FEDERAL HOUSING FINANCE BOARD

[No. 2008-N-02]

Federal Home Loan Bank Members Selected for Community Support Review

AGENCY: Federal Housing Finance Board.

ACTION: Notice.

SUMMARY: The Federal Housing Finance Board (Finance Board) is announcing the Federal Home Loan Bank (Bank) members it has selected for the 2008-09 first quarter review cycle under the Finance Board's community support requirements regulation. This notice also prescribes the deadline by which Bank members selected for review must submit Community Support Statements to the Finance Board.

DATES: Bank members selected for the review cycle under the Finance Board's community support requirements regulation must submit completed Community Support Statements to the Finance Board on or before May 30, 2008.

ADDRESSES: Bank members selected for the 2008-09 first quarter review cycle under the Finance Board's community support requirements regulation must submit completed Community Support Statements to the Finance Board either by regular mail at the Federal Housing Finance Board, Office of Supervision, Community Investment and Affordable Housing, 1625 Eye Street, NW., Washington, DC 20006, or by electronic mail at fitzgeralde@fhfb.gov.

FOR FURTHER INFORMATION CONTACT: Emma J. Fitzgerald, Program Analyst, Office of Supervision, Community Investment and Affordable Housing, by telephone at 202/408-2874, by electronic mail at fitzgeralde@fhfb.gov, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 30, 2008 deadline prescribed in this notice. 12 CFR 944.2(b)(1)(ii) and (c). On or before April 25, 2008, each Bank will notify the members in its district that have been selected for the 2008-09 first quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2008-09 first quarter community support review cycle:

Federal Home Loan Bank of Boston—District 1
Valley Bank | Bristol | Connecticut.
Litchfield Bancorp | Litchfield | Connecticut.
The Milford Bank | Milford | Connecticut.
Prime Bank | Orange | Connecticut.
National Iron Bank | Salisbury | Connecticut.
The First National Bank of Suffield | Suffield | Connecticut.
Savings Institute Bank & Trust Company | Willimantic | Connecticut.
Mechanics Savings Bank | Auburn | Maine.
Oxford Federal Credit Union | Mexico | Maine.
Adams Co-operative Bank | Adams | Massachusetts.
Beverly Cooperative Bank | Beverly | Massachusetts.
Wainwright Bank & Trust Company | Boston | Massachusetts.
Chelsea-Provident Co-operative Bank | Chelsea | Massachusetts.
East Boston Savings Bank | East Boston | Massachusetts.
East Bridgewater Savings Bank | East Bridgewater | Massachusetts.
Fall River Five Cents Savings Bank | Fall River | Massachusetts.
The First National Bank of Ipswich | Ipswich | Massachusetts.
Marlborough Co-Operative Bank | Marlborough | Massachusetts.
Century Bank & Trust Company | Medford | Massachusetts.
Needham Bank | Needham | Massachusetts.
Hoosac Bank | North Adams | Massachusetts.
North Brookfield Savings Bank | North Brookfield | Massachusetts.
Bank of Easton, A Co-operative Bank | North Easton | Massachusetts.
The Cape Cod Five Cents Savings Bank | Orleans | Massachusetts.
Rockland Trust Company | Rockland | Massachusetts.
UniBank For Savings | Whitinsville | Massachusetts.
Williamstown Savings Bank | Williamstown | Massachusetts.
St. Mary's Bank | Manchester | New Hampshire.
Community Guaranty Savings Bank | Plymouth | New Hampshire.
Coventry Credit Union | Coventry | Rhode Island.
Domestic Bank, FSB | Cranston | Rhode Island.
Union Federal Savings Bank | North Providence | Rhode Island.
Bank Rhode Island | Providence | Rhode Island.
Home Loan Investment Bank, FSB | Warwick | Rhode Island.
Federal Home Loan Bank of New York—District 2
Yardville National Bank | Hamilton Turnpike | New Jersey.
Morgan Stanley Trust | Jersey City | New Jersey.
The Provident Bank | Jersey City | New Jersey.
Atlantic Stewardship Bank | Midland Park | New Jersey.
City National Bank of New Jersey | Newark | New Jersey.
The Bank | Woodbury | New Jersey.
The Canandaigua National Bank and Trust Company | Canandaigua | New York.
Chemung Canal Trust Company | Elmira | New York.
National Bank of New York City | Flushing | New York.
New York Community Bank | Jericho | New York.
Rondout Savings Bank | Kingston | New York.
First Niagara | Lockport | New York.
State Bank of Long Island | New Hyde Park | New York.
Country Bank | New York | New York.
Eastbank, N.A | New York | New York.
PathFinder Bank | Oswego | New York.
Rhinebeck Savings Bank | Poughkeepsie | New York.
ESL Federal Credit Union | Rochester | New York.
Tioga State Bank | Spencer | New York.
Banco Santander Puerto Rico | San Juan | Puerto Rico.
Federal Home Loan Bank of Pittsburgh—District 3
County Bank | Rehoboth Beach | Delaware.
Chelten Hills Savings Bank | Abington | Pennsylvania.
Kishacoquillas Valley National Bank | Belleville | Pennsylvania.
CNB Bank | Clearfield | Pennsylvania.
Farmers National Bank of Emlenton | Emlenton | Pennsylvania.
Harleysville Savings Bank | Harleysville | Pennsylvania.
First National Bank of Pennsylvania | Hermitage | Pennsylvania.
The Honesdale National Bank | Honesdale | Pennsylvania.
Wayne Bank | Honesdale | Pennsylvania.
AmeriServe Financial Bank | Johnstown | Pennsylvania.
Luzerne National Bank | Luzerne | Pennsylvania.
Marion Center Bank | Marion Center | Pennsylvania.
Old Forge Bank | Old Forge | Pennsylvania.
First National Bank of Port Allegany | Port Allegany | Pennsylvania.
Community First Bank, N.A | Reynoldsville | Pennsylvania.
Farmers Building & Savings Bank | Rochester | Pennsylvania.
Eagle National Bank Upper | Darby | Pennsylvania.
Mountain Valley Bank, N.A | Elkins | West Virginia.
Calhoun County Bank, Inc | Grantsville | West Virginia.
Harrison County Bank | Lost Creek | West Virginia.
Union Bank, Inc | Middlebourne | West Virginia.
The Grant County Bank | Petersburg | West Virginia.
Citizens First Bank | Ravenswood | West Virginia.
Federal Home Loan Bank of Atlanta—District 4
Peoples Bank of Greensboro | Greensboro | Alabama.
Vision Bank | Gulf Shores | Alabama.
Cheaha Bank | Oxford | Alabama.
The Commercial Bank of Ozark | Ozark | Alabama.
Metro Bank | Pell City | Alabama.
CB & T Bank of East Alabama | Phenix City | Alabama.
Alabama Trust Bank, N.A. Sylacauga Alabama
The Farmers & Merchants Bank | Waterloo | Alabama.
The Citizens Bank of Winfield | Winfield | Alabama.
Adams National Bank | Washington | D.C.
Drummond Community Bank | Chiefland | Florida.
The International Bank of Miami, N.A | Coral Gables | Florida.
First National Bank of Pasco | Dade City | Florida.
1st National Bank of South Florida | Homestead | Florida.
Community Bank of Florida, Inc | Homestead | Florida.
Marine Bank | Marathon | Florida.
Security Bank, N.A | Margate | Florida.
Fidelity Bank of Florida | Merritt Island | Florida.
Coconut Grove Bank | Miami | Florida.
Peoples National Bank | Niceville | Florida.
Independent National Bank | Ocala | Florida.
Enterprise National Bank of Palm Beach | Palm Beach Gardens | Florida.
First State Bank | Sarasota | Florida.
Prosperity Bank of St. Augustine | St. Augustine | Florida.
Premier Bank | Tallahassee | Florida.
First National Bank of Wauchula | Wauchula | Florida.
BankFirst | Winter Park | Florida.
Alma Exchange Bank and Trust | Alma | Georgia.
First National Bank | South Alma | Georgia.
Citizens Bank of Americus | Americus | Georgia.
AFB & T | Athens | Georgia.
Silverton Bank, National Association | Atlanta | Georgia.
Fidelity Bank | Atlanta | Georgia.
Omni National Bank | Atlanta | Georgia.
Georgia Bank and Trust | Calhoun | Georgia.
Rabun County Bank | Clayton | Georgia.
Community Bank and Trust | Cornelia | Georgia.
Bank of Dudley | Dudley | Georgia.
Citizens Bank and Trust Company | Eastman | Georgia.
First National Bank of Griffin | Griffin | Georgia.
McIntosh State Bank | Jackson | Georgia.
Queensboro National Bank & Trust Company | Louisville | Georgia.
Bank of Madison | Madison | Georgia.
Exchange Bank | Milledgeville | Georgia.
Ameris Bank | Moultrie | Georgia.
The Tattnall Bank | Reidsville | Georgia.
Bryan Bank and Trust | Richmond Hill | Georgia.
Northwest Georgia Bank | Ringgold | Georgia.
Rossville Bank | Rossville | Georgia.
West Central Georgia Bank | Thomaston | Georgia.
Carrollton Bank | Baltimore | Maryland.
Frederick County Bank | Frederick | Maryland.
Glen Burnie Mutual Savings Bank | Glen Burnie | Maryland.
Hebron Savings Bank | Hebron | Maryland.
Bay National Bank | Lutherville | Maryland.
First Financial of Maryland FCU | Lutherville | Maryland.
Regal Bank & Trust | Owings Mills | Maryland.
The Queenstown Bank of Maryland | Queenstown | Maryland.
Blue Ridge Savings Bank, Inc | Asheville | North Carolina.
Cardinal State Bank | Durham | North Carolina.
Yadkin Valley Bank and Trust Company | Elkin | North Carolina.
The Fidelity Bank | Fuquay-Varina | North Carolina.
Bank of Granite | Granite Falls | North Carolina.
Sound Banking Company | Morehead City | North Carolina.
Morganton Federal Savings & Loan Association | Morganton | North Carolina.
Peoples Bank | Newton | North Carolina.
First Carolina State Bank | Rocky Mount | North Carolina.
Wake Forest Federal S&L Association | Wake Forest | North Carolina.
First Federal Savings and Loan Association | Charleston | South Carolina.
Crescent Bank | Charleston | South Carolina.
Southern First Bank | Greenville | South Carolina.
Horry County State Bank | Loris | South Carolina.
Community Resource Bank, NA | Orangeburg | South Carolina.
Virginia National Bank | Charlottesville | Virginia.
Bank of Hampton Roads | Chesapeake | Virginia.
The Old Point National Bank of Phoebus | Hampton | Virginia.
Grayson National Bank | Independence | Virginia.
Chesapeake Bank | Kilmarnock | Virginia.
Village Bank | Midlothian | Virginia.
BayPort Credit Union | Newport News | Virginia.
Central Virginia Bank | Powhaton | Virginia.
Citizens and Farmers Bank | West Point | Virginia.
Federal Home Loan Bank of Cincinnati—District 5
Citizens Deposit Bank of Arlington, Inc | Arlington | Kentucky.
Peoples Bank & Trust Company of Madison County | Berea | Kentucky.
Deposit Bank of Carlisle | Carlisle | Kentucky.
King Southern Bank | Chaplin | Kentucky.
The Farmers National Bank of Danville | Danville | Kentucky.
Dixon Bank | Dixon | Kentucky.
First Citizens Bank | Elizabethtown | Kentucky.
Farmers Bank & Capital Trust Company, Inc | Frankfort | Kentucky.
American Founders Bank, Inc | Frankfort | Kentucky.
Franklin Bank & Trust Company | Franklin | Kentucky.
Fort Knox FCU | Ft. Knox | Kentucky.
The Farmers Bank and Trust Company | Georgetown | Kentucky.
Henderson National Bank | Henderson | Kentucky.
United Southern Bank | Hopkinsville | Kentucky.
Century Bank of Kentucky | Lawrenceburg | Kentucky.
Republic Bank and Trust Company | Louisville | Kentucky.
FNB Bank, Inc | Mayfield | Kentucky.
Jackson County Bank | McKee | Kentucky.
The Farmers Bank of Milton | Milton | Kentucky.
Citizens Bank | Mt. Vernon | Kentucky.
Peoples Bank & Trust Company | Owenton | Kentucky.
Springfield State Bank | Springfield | Kentucky.
South Central Bank of Monroe County, Inc | Tompkinsville | Kentucky.
Citizens Deposit Bank & Trust | Vanceburg | Kentucky.
The Apple Creek Banking Company | Apple Creek | Ohio.
Sharefax Credit Union, Inc | Batavia | Ohio.
The First National Bank of Bellevue | Bellevue | Ohio.
Monitor Bank | Big Prairie | Ohio.
Cottage Savings Bank | Cincinnati | Ohio.
KEMBA Financial CU, Inc | Columbus | Ohio.
The Huntington National Bank | Columbus | Ohio.
The Community Bank | Crooksville | Ohio.
Citizens National Bank of Southwestern | Dayton | Ohio.
Dover-Phila Federal Credit Union | Dover | Ohio.
First Federal Community Bank | Dover | Ohio.
1st National Community Bank | East Liverpool | Ohio.
The Bankers Guarantee Title & Trust Company | Fairlawn | Ohio.
The Peoples Bank Inc | Gambier | Ohio.
The Genoa Banking Company | Genoa | Ohio.
Kentucky Teleco Federal Credit Union | Louisville | Ohio.
The Richland Trust Company | Mansfield | Ohio.
The Metamora State Bank | Metamora | Ohio.
Consumers National Bank | Minerva | Ohio.
The Henry County Bank | Napoleon | Ohio.
Home FS&LA of Niles | Niles | Ohio.
Community One Credit Union of Ohio | North Canton | Ohio.
The Osgood State Bank | Osgood | Ohio.
The Ottoville Bank Company | Ottoville | Ohio.
Somerville National Bank | Somerville | Ohio.
Erie Shores Credit Union, Inc | Toledo | Ohio.
Westfield Bank, FSB | Westfield Center | Ohio.
Bank of Cleveland | Cleveland | Tennessee.
Citizens Tri-County Bank | Dunlap | Tennessee.
Citizens Bank | Elizabethton | Tennessee.
Andrew Johnson Bank | Greeneville | Tennessee.
The Bank of Nashville | Nashville | Tennessee.
The Oakland Deposit Bank | Oakland | Tennessee.
Farmers Bank | Parsons | Tennessee.
First National Bank of Pulaski | Pulaski | Tennessee.
First Century Bank | Tazewell | Tennessee.
Federal Home Loan Bank of Indianapolis—District 6
Community State Bank | Avilla | Indiana.
Bath State Bank | Bath | Indiana.
First Bank of Berne | Berne | Indiana.
Monroe Bank | Bloomington | Indiana.
Farmers and Merchants Bank | Boswell | Indiana.
Farmers State Bank | Brookston | Indiana.
Irwin Union Bank and Trust Company | Columbus | Indiana.
Fountain Trust Company | Covington | Indiana.
DeMotte State Bank | DeMotte | Indiana.
Peoples State Bank | Ellettsville | Indiana.
Integra Bank NA | Evansville | Indiana.
Bank of Geneva | Geneva | Indiana.
MainSource Bank | Greensburg | Indiana.
Bippus State Bank | Huntington | Indiana.
National Bank of Indianapolis | Indianapolis | Indiana.
Salin Bank & Trust Company | Indianapolis | Indiana.
Kentland Bank | Kentland | Indiana.
Farmers State Bank | Lanesville | Indiana.
Community State Bank | Royal Center | Indiana.
Morris Plan Company | Terre Haute | Indiana.
Lake City Bank | Warsaw | Indiana.
Alden State Bank | Alden | Michigan.
Midwest Financial Credit Union | Ann Arbor | Michigan.
Home Federal Savings Bank | Detroit | Michigan.
First National Bank of America | East Lansing | Michigan.
Michigan Heritage Bank | Farmington Hills | Michigan.
The State Bank | Fenton | Michigan.
Dort Federal Credit Union | Flint | Michigan.
First Bank, Upper Michigan | Gladstone | Michigan.
United Bank of Michigan | Grand Rapids | Michigan.
Lansing Automakers Federal Credit Union | Lansing | Michigan.
Farmers State Bank of Munith | Munith | Michigan.
OUR Credit Union | Royal Oak | Michigan.
Federal Home Loan Bank of Chicago—District 7
Anchor State Bank | Anchor | Illinois.
First State Bank of Beardstown | Beardstown | Illinois.
Germantown Trust and Savings Bank | Breese | Illinois.
The Bank of Carbondale | Carbondale | Illinois.
Highland Community Bank | Chicago | Illinois.
Home State Bank, National Association | Crystal Lake | Illinois.
Farmers State Bank of Danforth | Danforth | Illinois.
Durand State Bank | Durand | Illinois.
First Community Bank | Elgin | Illinois.
St. Charles Bank and Trust | Geneva | Illinois.
First Eagle Bank | Hanover Park | Illinois.
Bank of Calhoun County | Hardin | Illinois.
Standard Bank and Trust Company | Hickory Hills | Illinois.
The First National Bank | Lacon | Illinois.
The Farmers Bank of Liberty | Liberty | Illinois.
Banterra Bank | Marion | Illinois.
Maroa Forsyth Community Bank | Maroa | Illinois.
First Mid-Illinois Bank & Trust, N.A | Mattoon | Illinois.
First State Bank | Mendota | Illinois.
Citizens State Bank of Milford | Milford | Illinois.
BankORION | Orion | Illinois.
South Side Trust & Savings Bank | Peoria | Illinois.
Bank of Pontiac | Pontiac | Illinois.
Princeville State Bank | Princeville | Illinois.
The Farmers National Bank of Prophetstown | Prophetstown | Illinois.
Marion County Savings Bank | Salem | Illinois.
Bank of Springfield | Springfield | Illinois.
First Community State Bank | Staunton | Illinois.
First National Bank in Taylorville | Taylorville | Illinois.
First National Bank of Waterloo | Waterloo | Illinois.
Williamsville State Bank & Trust | Williamsville | Illinois.
The Baraboo National Bank | Baraboo | Wisconsin.
Union Bank of Blair | Blair | Wisconsin.
First Wisconsin Bank & Trust Company | Brookfield | Wisconsin.
Great Midwest Bank, S.S.B | Brookfield | Wisconsin.
Bank North | Crivitz | Wisconsin.
First National Bank | Eagle River | Wisconsin.
Citizens Community Federal | Eau Claire | Wisconsin.
Royal Bank | Elroy | Wisconsin.
Oak Bank | Fitchburg | Wisconsin.
State Bank of Florence | Florence | Wisconsin.
Bank of Galesville | Galesville | Wisconsin.
First National Bank of Hartford | Hartford | Wisconsin.
Bank of Kenosha | Kenosha | Wisconsin.
Coulee Bank | La Crosse | Wisconsin.
Citizens State Bank of Loyal | Loyal | Wisconsin.
Bank of Luxemburg | Luxemburg | Wisconsin.
First Business Bank | Madison | Wisconsin.
Columbia Savings and Loan Association | Milwaukee | Wisconsin.
Citizens Bank of Mukwonago | Mukwonago | Wisconsin.
First State Bank | New London | Wisconsin.
S & C Bank | New Richmond | Wisconsin.
First Bank Financial Centre | Oconomowoc | Wisconsin.
River Valley State Bank | Rothschild | Wisconsin.
River Bank | Stoddard | Wisconsin.
Community Bank | Superior | Wisconsin.
Waldo State Bank | Waldo | Wisconsin.
Farmers & Merchants State Bank | Waterloo | Wisconsin.
InvestorsBank | Waukesha | Wisconsin.
Waukesha State Bank | Waukesha | Wisconsin.
Marathon Savings Bank | Wausau | Wisconsin.
John O. Melby & Company Bank | Whitehall | Wisconsin.
Chippewa Valley Bank | Winter | Wisconsin.
Woodford State Bank | Woodford | Wisconsin.
Federal Home Loan Bank of Des Moines—District 8
City State Bank | Central City | Iowa.
Midwest Heritage Bank | Chariton | Iowa.
Great River Bank & Trust | Davenport | Iowa.
Iowa State Bank | Des Moines | Iowa.
Peoples Savings Bank | Elma | Iowa.
Lee County Bank & Trust, N.A | Fort Madison | Iowa.
Grinnell State Bank | Grinnell | Iowa.
Security State Bank | Independence | Iowa.
Community First Bank | Keosauqua | Iowa.
Pleasantville State Bank | Pleasantville | Iowa.
First Federal Bank | Sioux City | Iowa.
Northeast Security Bank | Sumner | Iowa.
Farmers & Merchants Savings Bank | Waukon | Iowa.
Liberty Bank, FSB | West Des Moines | Iowa.
Earlham Savings Bank | West Des Moines | Iowa.
First Trust and Savings Bank | Wheatland | Iowa.
North American State Bank | Belgrade | Minnesota.
Bremer Bank, N.A | Brainerd | Minnesota.
First Security Bank—Canby | Canby | Minnesota.
Republic Bank, Inc | Duluth | Minnesota.
Bremer Bank, N.A | International Falls | Minnesota.
Security State Bank | Lewiston | Minnesota.
Pine Country Bank | Little Falls | Minnesota.
Minnwest Bank Luverne | Luverne | Minnesota.
Community Bank Vernon Center | Mankato | Minnesota.
Security State Bank of Marine | Marine on St. Croix | Minnesota.
First Minnetonka City Bank | Minnetonka | Minnesota.
Franklin National Bank of Minneapolis | Minneapolis | Minnesota.
Northeast Bank | Minneapolis | Minnesota.
Minnwest Bank Central | Montevideo | Minnesota.
Lake Region Bank | New London | Minnesota.
United Community Bank | Perham | Minnesota.
Farmers & Merchants State Bank of Pierz | Pierz | Minnesota.
Pine Island Bank | Pine Island | Minnesota.
First National Bank and Trust | Pipestone | Minnesota.
State Bank of Richmond | Richmond | Minnesota.
Minnesota First Credit and Savings, Inc | Rochester | Minnesota.
BEACONBANK | Shorewood | Minnesota.
Bremer Bank, N.A | South St. Paul | Minnesota.
Farmers & Merchants State Bank of Springfield | Springfield | Minnesota.
Liberty Savings Bank, fsb | St. Cloud | Minnesota.
Capital Bank | St. Paul | Minnesota.
First Integrity Bank, National Association | Staples | Minnesota.
Central Bank | Stillwater | Minnesota.
Northern State Bank of Thief River Falls | Thief River Falls | Minnesota.
Paragon Bank | Wells | Minnesota.
State Bank of Wheaton | Wheaton | Minnesota.
Bremer Bank, N.A | Willmar | Minnesota.
Winona National Bank | Winona | Minnesota.
Bank of Advance | Advance | Missouri.
Carroll County Savings and Loan Association | Carrollton | Missouri.
First Midwest Bank of Dexter | Dexter | Missouri.
Farmers & Merchants Bank of Hale | Hale | Missouri.
F&C Bank | Holden | Missouri.
Midwest Independent Bank | Jefferson City | Missouri.
Bank Midwest | Kansas City | Missouri.
Union Bank | Kansas City | Missouri.
Alliant Bank | Kirksville | Missouri.
First Community Bank | Lee's Summit | Missouri.
Martinsburg Bank and Trust | Mexico | Missouri.
Central Bank of Lake of the Ozarks | Osage Beach | Missouri.
First Midwest Bank of Poplar Bluff | Poplar Bluff | Missouri.
First Community Bank, Missouri | Poplar Bluff | Missouri.
Bank of Rothville | Rothville | Missouri.
Citizens National Bank of Greater St. Louis | St. Louis | Missouri.
Anheuser-Busch Employees' Credit Union | St. Louis | Missouri.
Neighbors Credit Union | St. Louis | Missouri.
Jefferson Bank & Trust | St. Louis | Missouri.
First Community National Bank | Steelville | Missouri.
Bank of Sullivan | Sullivan | Missouri.
Bank of Crocker | Waynesville | Missouri.
West Plains Bank & Trust Company | West Plains | Missouri.
Bank of Weston | Weston | Missouri.
Enterprise Bank & Trust | Wheaton | Missouri.
American Bank Center First | Bismarck | North Dakota.
Bank of North Dakota | Bismarck | North Dakota.
Country Bank, USA | Cando | North Dakota.
Security First Bank of North Dakota | Center | North Dakota.
Choice Financial Group | Grafton | North Dakota.
American State Bank and Trust Company | Williston | North Dakota.
First National Bank | Pierre | South Dakota.
The First National Bank in Sioux Falls | Sioux Falls | South Dakota.
Federal Home Loan Bank of Dallas—District 9
Union Bank of Benton | Benton | Arkansas.
First National Bank of Berryville | Berryville | Arkansas.
First National Bank of Izard County | Calico Rock | Arkansas.
First Security Bank of Conway | Conway | Arkansas.
Arkansas County Bank | DeWitt | Arkansas.
Bank of England | England | Arkansas.
First National Bank | Green Forest | Arkansas.
Helena National Bank | Helena | Arkansas.
Liberty Bank of Arkansas | Jonesboro | Arkansas.
Bank of Little Rock | Little Rock | Arkansas.
First Community Bank of Eastern Arkansas | Marion | Arkansas.
Commercial Bank and Trust | Monticello | Arkansas.
First National Bank & Trust Company | Mountain Home | Arkansas.
Chart Bank | Perryville | Arkansas.
Simmons First National Bank | Pine Bluff | Arkansas.
Bank of Prescott | Prescott | Arkansas.
Riverside Bank | Sparkman | Arkansas.
First National Bank | Arcadia | Louisiana.
Citizens National Bank, N.A | Bossier City | Louisiana.
Parish National Bank | Covington | Louisiana.
Guaranty Bank & Trust Company of Delhi | Delhi | Louisiana.
Catahoula—LaSalle Bank | Jonesville | Louisiana.
Progressive National Bank of DeSoto Parish | Mansfield | Louisiana.
Bank of Maringuoin | Maringuoin | Louisiana.
Louisiana Corporate Credit Union | Metarie | Louisiana.
Whitney National Bank | New Orleans | Louisiana.
Guaranty Bank and Trust Company | New Roads | Louisiana.
Tensas State Bank | Newellton | Louisiana.
Patterson State Bank | Patterson | Louisiana.
Iberville Bank | Plaquemine | Louisiana.
Rayne State Bank & Trust Company | Rayne | Louisiana.
Teche Bank & Trust Company | St. Martinville | Louisiana.
Bank of Sunset and Trust Company | Sunset | Louisiana.
Washington State Bank | Washington | Louisiana.
Forest Kraft FCU | West Monroe | Louisiana.
Community Bank, Coast | Biloxi | Mississippi.
Citizens Bank | Columbia | Mississippi.
Jefferson Bank | Fayette | Mississippi.
First Commercial Bank | Jackson | Mississippi.
Bank of Kilmichael | Kilmichael | Mississippi.
Peoples Bank | Mendenhall | Mississippi.
Bank of Morton | Morton | Mississippi.
Merchants and Planters Bank | Raymond | Mississippi.
Richton Bank & Trust Company | Richton | Mississippi.
Delta Southern Bank | Ruleville | Mississippi.
First State Bank | Waynesboro | Mississippi.
Sunrise Bank of Albuquerque | Albuquerque | New Mexico.
High Desert State Bank | Albuquerque | New Mexico.
MainBank | Albuquerque | New Mexico.
Farmers & Stockmens Bank | Clayton | New Mexico.
Valley National Bank | Espanola | New Mexico.
Lea County State Bank | Hobbs | New Mexico.
Bank of the Rio Grande, N.A | Las Cruces | New Mexico.
Mesilla Valley Bank | Las Cruces | New Mexico.
Bank of the Southwest | Roswell | New Mexico.
City Bank New Mexico | Ruidoso | New Mexico.
West Texas National Bank | Alpine | Texas.
Bank of Texas | Austin | Texas.
Balinger National Bank | Balinger | Texas.
Vintage Bank | Barlett | Texas.
Mobiloil FCU | Beaumont | Texas.
Bloomburg State Bank | Bloomburg | Texas.
First Bank and Trust of Childress | Childress | Texas.
Southwest Bank of Fort Worth | Fort Worth | Texas.
HomeTown Bank, N.A | Galveston | Texas.
Gruver State Bank | Gruver | Texas.
Hull State Bank | Hull | Texas.
Industry State Bank | Industry | Texas.
The First National Bank of Refugio | Refugio | Texas.
Synergy Bank, SSB | Waco | Texas.
Citizens National Bank of Texas | Waxahachie | Texas.
White Oak State Bank | White Oak | Texas.
American Bank of Commerce | Wolfforth | Texas.
Citizens State Bank | Woodville | Texas.
Federal Home Loan Bank of Topeka—District 10
The Farmers State Bank of Fort Morgan | Fort Morgan | Colorado.
The Citizens National Bank of Akron | Akron | Colorado.
First Southwest Bank | Alamosa | Colorado.
Fitzsimons FCU | Aurora | Colorado.
Boulder Valley Credit Union | Boulder | Colorado.
FlatIrons Bank | Boulder | Colorado.
Boulder Municipal Employee FCU | Boulder | Colorado.
The Eastern Colorado Bank | Cheyenne Wells | Colorado.
Colorado National Bank | Colorado Springs | Colorado.
FirstBank of El Paso County | Colorado Springs | Colorado.
5Star Bank | Colorado Springs | Colorado.
Bank of Denver | Denver | Colorado.
FirstBank of Cherry Creek | Denver | Colorado.
FirstBank of Denver | Denver | Colorado.
First Western Trust Bank | Denver | Colorado.
Westerra Credit Union | Denver | Colorado.
Public Employees Credit Union | Denver | Colorado.
Millennium Bank | Edwards | Colorado.
Trust Company of America | Englewood | Colorado.
Fort Morgan State Bank | Fort Morgan | Colorado.
Grand Mountain Bank FSB | Granby | Colorado.
FNB of the Rockies | Grand Junction | Colorado.
Timberline Bank | Grand Junction | Colorado.
Grand Valley National Bank | Grand Junction | Colorado.
Bellco First FCU | Greenwood Village | Colorado.
First State Bank | Hotchkiss | Colorado.
Colorado Bank & Trust Company | La Junta | Colorado.
FirstBank of Colorado, Lakewood | Lakewood | Colorado.
FirstBank of Longmont | Lakewood | Colorado.
FirstBank of South Jeffco | Lakewood | Colorado.
First Mountain Bank | Leadville | Colorado.
Horizons Bank | Limon | Colorado.
FirstBank | Littleton | Colorado.
FirstBank of Adams County | Northgleen | Colorado.
Citizens Bank of Pagosa Springs | Pagosa | Colorado.
North Valley Bank | Thornton | Colorado.
The FNB in Trinidad | Trinidad | Colorado.
International Bank | Trinidad | Colorado.
Mountain Valley Bank | Walden | Colorado.
First Pioneer National Bank | Wary | Colorado.
Wray State Bank | Wray | Colorado.
Labette Bank | Altamont | Kansas.
Equity | Andover | Kansas.
Union State Bank | Arkansas City | Kansas.
The Exchange National Bank | Atchison | Kansas.
Baxter State Bank | Baxter Springs | Kansas.
Bank of the Prairie | Beattie | Kansas.
First National Bank of Beloit | Beloit | Kansas.
First National Bank of Kansas | Burlington | Kansas.
Farmers & Merchants State Bank | Cawker City | Kansas.
First National Bank of Centralia | Centralia | Kansas.
Union State Bank of Clay Center | Clay Center | Kansas.
Peoples Bank | Coldwater | Kansas.
Swedish-American State Bank | Courtland | Kansas.
State Bank of Delphos | Delphos | Kansas.
Verus Bank, NA | Derby | Kansas.
First National Bank of Elkhart | Elkhart | Kansas.
Ellis State Bank | Ellis | Kansas.
First Community Bank | Emporia | Kansas.
Lyon County State Bank | Emporia | Kansas.
First National Bank of Frankfort | Frankfort | Kansas.
Golden Plains Credit Union | Garden City | Kansas.
Citizens State Bank | Gridley | Kansas.
First National Bank of Harveyville | Harveyville | Kansas.
BankHaven | Haven | Kansas.
First National Bank | Hays | Kansas.
The Citizens State Bank and Trust Company | Hiawatha | Kansas.
First Kansas Bank | Hoisington | Kansas.
First National Bank of Hope | Hope | Kansas.
Citizens State Bank | Hugoton | Kansas.
The First National Bank of Hutchinson, Kansas | Hutchinson | Kansas.
First National Bank & Trust Company | Junction City | Kansas.
Brotherhood Bank & Trust Company | Kansas City | Kansas.
Peoples Bank | Lawrence | Kansas.
Town & Country Bank | Leawood | Kansas.
U. S. Central Federal Credit Union | Lenexa | Kansas.
First National Bank of LeRoy | LeRoy | Kansas.
The Community Bank | Liberal | Kansas.
First National Bank of Louisburg | Louisburg | Kansas.
Lyndon State Bank | Lyndon | Kansas.
Landmark National Bank | Manhattan | Kansas.
Community First National Bank | Manhattan | Kansas.
Peoples State Bank | McDonald | Kansas.
Peoples Bank & Trust Company | McPherson | Kansas.
Home State Bank & Trust Company | McPherson | Kansas.
Farmers Alliance Mutual Insurance Company | McPherson | Kansas.
First National Bank of Southern Kansas | Mount Hope | Kansas.
First Neodesha Bank | Neodesha | Kansas.
Kansas State Bank | Ottawa | Kansas.
Cornerstone Bank | Overland Park | Kansas.
First National Bank of Kansas | Overland Park | Kansas.
Hillcrest Bank | Overland Park | Kansas.
Commercial Bank | Parsons | Kansas.
First National Bank and Trust | Phillipsburg | Kansas.
Midwest Community Bank | Plainview | Kansas.
Country Club Bank, NA | Shawnee Mission | Kansas.
The Exchange State Bank | St. Paul | Kansas.
Farmers National Bank of Stafford | Stafford | Kansas.
Towanda State Bank | Towanda | Kansas.
Grant County Bank | Ulysses | Kansas.
Union State Bank | Uniontown | Kansas.
Trego-WaKeeney State Bank | WaKeeney | Kansas.
Farmers and Merchants State Bank | Wakefield | Kansas.
Security State Bank | Wellington | Kansas.
Farmers State Bank of Westmoreland | Westmoreland | Kansas.
Credit Union of America | Wichita | Kansas.
Wilson State Bank | Wilson | Kansas.
CornerBank, N.A | Winfield | Kansas.
Pony Express Community Bank | St. Joseph | Missouri.
Battle Creek State Bank | Battle Creek | Nebraska.
First National Bank | Beemer | Nebraska.
Columbus Bank and Trust Company | Columbus | Nebraska.
Fremont National Bank | Fremont | Nebraska.
Fullerton National Bank | Fullerton | Nebraska.
Thayer County Bank | Hebron | Nebraska.
Union Bank & Trust Company | Lincoln | Nebraska.
McCook National Bank | McCook | Nebraska.
Adams Bank & Trust | Ogallala | Nebraska.
Omaha State Bank | Omaha | Nebraska.
First Westroads Bank, Inc | Omaha | Nebraska.
Mutual First Federal Credit Union | Omaha | Nebraska.
Metro Health Services Federal Credit Union | Omaha | Nebraska.
First National Bank in Ord | Ord | Nebraska.
First National Bank | Schuyler | Nebraska.
The Stanton National Bank | Stanton | Nebraska.
Farmers & Merchants State Bank | Wayne | Nebraska.
First United Bank and Trust Company | Durant | Oklahoma.
Central National Bank and Trust Company | Enid | Oklahoma.
The Farmers and Merchants NB of Fairview | Fairview | Oklahoma.
Security First National Bank | Hugo | Oklahoma.
First Fidelity Bank, N.A | Oklahoma City | Oklahoma.
Pauls Valley National Bank | Pauls Valley | Oklahoma.
First State Bank in Temple | Temple | Oklahoma.
First Farmers National Bank of Waurika | Waurika | Oklahoma.
Federal Home Loan Bank of San Francisco—District 11
Desert Hills Bank | Phoenix | Arizona.
Sunrise Bank of Arizona | Phoenix | Arizona.
Stearns Bank Arizona, NA | Scottsdale | Arizona.
Bank of Alameda | Alameda | California.
City National Bank | Beverly Hills | California.
First Bank of Beverly Hills | Calabasas | California.
Evertrust Bank | City of Industry | California.
Vineyard Bank, N.A | Corona | California.
Pacific Mercantile Bank | Costa Mesa | California.
Stockmans Bank | Elk Grove | California.
Premier Valley Bank | Fresno | California.
Imperial Capital Bank | La Jolla | California.
1st Pacific Bank of California | La Jolla | California.
Gold Country Bank, NA | Marysville | California.
Circle Bank | Novato | California.
Summit Bank | Oakland | California.
Addison Avenue Federal Credit Union | Palo Alto | California.
Sterlent Credit Union | Peasonton | California.
The Mechanics Bank | Richmond | California.
Altura Credit Union | Riverside | California.
The Bank of Hemet | Riverside | California.
The Golden 1 Credit Union | Sacramento | California.
Bank of Sacramento | Sacramento | California.
Arrowhead Central Credit Union | San Bernardino | California.
Bank of America California, N.A | San Francisco | California.
Trans Pacific National Bank | San Francisco | California.
Bank of the West | San Francisco | California.
Borel Private Bank & Trust Company | San Mateo | California.
Montecito Bank & Trust | Santa Barbara | California.
Santa Clara Valley, N.A | Santa Paula | California.
Community Bank of San Joaquin | Stockton | California.
Mission Oaks National Bank | Temecula | California.
First Financial Credit Union | West Covina | California.
Nevada State Bank | Las Vegas | Nevada.
Bank of Nevada | Las Vegas | Nevada.
Desert Community Bank | Las Vegas | Nevada.
Nevada Security Bank | Reno | Nevada.
Federal Home Loan Bank of Seattle—District 12
Bank of Hawaii | Honolulu | Hawaii.
D.L. Evans Bank | Burley | Idaho.
bankcda | Coeur D'Alene | Idaho.
Citizens Bank and Trust Company | Big Timber | Montana.
First Interstate Bank | Billings | Montana.
Bank of Bridger | Bridger | Montana.
Citizens State Bank of Choteau | Choteau | Montana.
First Security Bank of Deer Lodge | Deer Lodge | Montana.
State Bank & Trust Company | Dillon | Montana.
First National Bank of Fairfield | Fairfield | Montana.
First Citizens Bank | Polson | Montana.
1st Bank | Sidney | Montana.
Lake County Bank | St. Ignatius | Montana.
Ruby Valley National Bank | Twin Bridges | Montana.
Bank of the Rockies, N.A | White Sulphur Springs | Montana.
Whitefish Credit Union | Whitefish | Montana.
OSU Federal Credit Union | Corvallis | Oregon.
Mbank | Gresham | Oregon.
Community Bank | Joseph | Oregon.
Barnes Banking Company | Kaysville | Utah.
Cache Valley Bank | Logan | Utah.
Peninsula Community FCU | Shelton | Utah.
Southwest Community FCU | St. George | Utah.
Peoples Bank | Lynden | Washington.
Inland Northwest Bank | Spokane | Washington.
Sound Credit Union | Tacoma | Washington.
IQ Credit Union | Vancouver | Washington.
Shoshone First Bank | Cody | Wyoming.

II. Public Comments

To encourage the submission of public comments on the community support performance of Bank members, on or before April 25, 2008, each Bank will notify its Advisory Council and nonprofit housing developers, community groups, and other interested parties in its district of the members selected for community support review in the 2008-09 first quarter review cycle. 12 CFR 944.2(b)(2)(ii). In reviewing a member for community support compliance, the Finance Board will consider any public comments it has received concerning the member. 12 CFR 944.2(d). To ensure consideration by the Finance Board, comments concerning the community support performance of members selected for the 2008-09 first quarter review cycle must be delivered to the Finance Board on or before the May 30, 2008 deadline for submission of Community Support Statements.

Dated: April 2, 2008.
Neil R. Crowley,
Acting General Counsel.

[FR Doc. E8-7510 Filed 4-10-08; 8:45 am]

BILLING CODE 6725-01-P